DEPARTMENT OF TRANSPORTATION

Federal Aviation Administration

14 CFR Part 39

[Docket No. 99-SW-80-AD; Amendment 39-12983; AD 2002-25-07]

RIN 2120-AA64

Airworthiness Directives; Bell Helicopter Textron Canada Limited Model 206L, L-1, L-3, and L-4 Helicopters

AGENCY: Federal Aviation Administration, DOT.

ACTION: Final rule.

SUMMARY: This amendment supersedes an existing airworthiness directive (AD) for the specified Bell Helicopter Textron Canada Limited (BHTCL) model helicopters that currently requires removing the horizontal stabilizer supports and inspecting the edges of the tailboom skins around the horizontal stabilizer openings for a crack. This amendment requires checking and inspecting the tailboom for a crack and modifying or replacing the tailboom as necessary. This amendment also provides a terminating action, incorporates a more recent alert service bulletin (ASB), and increases the compliance time for performing the inspections. This amendment is prompted by several reports of cracks found during mandatory inspections. The actions specified by this AD are intended to detect a crack in the tailboom skin and to prevent separation of the tailboom and subsequent loss of control of the helicopter.

DATES: Effective January 27, 2003.

The incorporation by reference of certain publications listed in the regulations is approved by the Director of the Federal Register as of January 27, 2003.

ADDRESSES: The service information referenced in this AD may be obtained from Bell Helicopter Textron, Inc., P.O. Box 482, Fort Worth, Texas 76101, telephone (817) 280-3391, fax (817) 280-6466. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION: A proposal to amend 14 CFR part 39 by superseding AD 99-13-12, Amendment 39-11207 (64 FR 33747, June 24, 1999) for BHTCL Model 206L, L-1, L-3, and L-4 helicopters was published in the Federal Register on April 19, 2000 (65 FR 20927). That action proposed inspecting the tailboom skins for a crack, replacing a cracked tailboom with a modified tailboom before further flight, and implementing recurring inspections of the modified tailboom.

A supplemental NPRM (SNPRM) was published in the Federal Register on August 22, 2002 (67 FR 54381) based on comments from the manufacturer and an operator stating that the proposed compliance time for modifying the tailboom should be increased. Also, the manufacturer revised the ASB and changed the suggested compliance time. The FAA reevaluated the proposed compliance time to modify the tailboom in light of the comments received and determined that an increase from 300 hours time-in-service (TIS) to 600 hours TIS is sufficient to meet the safety objectives. Also, after publishing the original proposal, a redesigned tailboom, part number (P/N) 206-033-004-181, was approved and manufactured with the required skin doubler hot-bonded in place. Therefore, installing an airworthy, redesigned tailboom, P/N 206-033-004-181, was proposed terminating action for the requirements of this AD. Since the changes expanded the scope of the original proposal, we reopened the comment period.

Interested persons have been afforded an opportunity to participate in the making of this amendment. No comments were received on the SNPRM or the FAA's determination of the cost to the public. The FAA has determined that air safety and the public interest require the adoption of the rule as proposed in the SNPRM with one exception. We have changed the AD to reflect the manufacturer's official name, which is Bell Helicopter Textron Canada Limited. That change will neither increase the economic burden nor increase the scope of the AD.

The FAA estimates that this AD will affect 1546 helicopters of U.S. registry, that it will take approximately 52 work hours per helicopter to accomplish the required actions, and that the average labor rate is $60 per work hour. Required parts will cost approximately $22,954. Based on these figures, the total cost impact of the AD on U.S. operators is estimated to be $40,310,404, assuming all the tailbooms are replaced.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11207 (64 FR 33747, June 24, 1999) and by adding a new airworthiness directive (AD), Amendment 39-12983, to read as follows:

2002-25-07 Bell Helicopter Textron Canada Limited: Amendment 39-12983. Docket No. 99-SW-80-AD. Supersedes AD 99-13-12, Amendment 39-11207, Docket No. 99-SW-23-AD.

Applicability: Model 206L helicopters, serial numbers (S/N) 45004 through 45049, 45051 through 45153, and 46601 through 46617; Model 206L-1 helicopters, S/N 45154 through 45790; Model 206L-3 helicopters, S/N 51001 through 51612; and Model 206L-4 helicopters, S/N 52001 through 52163, 52165 through 52212, and 52214 through 52216, with tailboom, part number (P/N) 206-033-004 all dash numbers, except P/N 206-033-004-181, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (i) of this AD. The request should include an assessment of the effect of the modification, alteration, or repair on the unsafe condition addressed by this AD; and if the unsafe condition has not been eliminated, the request should include specific proposed actions to address it.

Compliance: Required as indicated, unless accomplished previously.

To detect a crack in the tailboom skin and to prevent separation of the tailboom from the helicopter and subsequent loss of control of the helicopter, accomplish the following:

(a) Before further flight and thereafter at intervals not to exceed 10 hours time-in-service (TIS) until accomplishing a one-time fluorescent-penetrant inspection (FPI) required by paragraph (c)(2) of this AD, visually inspect for a crack in the tailboom using a 10-power or higher magnifying glass in the shaded areas as depicted in Figure 1 of this AD:

BILLING CODE 4910-13-P

BILLING CODE 4910-13-C

(b) At intervals not to exceed 5 hours TIS, visually check for a crack in the tailboom in the shaded areas as depicted in Figure 1 of this AD. The visual check may be performed by an owner/operator (pilot) holding at least a private pilot certificate and must be entered into the helicopter records showing compliance with this paragraph in accordance with 14 CFR 43.11 and 91.417(a)(2)(v).

(c) Within 50 hours TIS:

(1) Remove all four horizontal stabilizer supports, P/N 206-023-100-all dash numbers, from the tailboom and the horizontal stabilizer.

(2) Perform a one-time FPI of the edges of the tailboom skins for any crack around the left and right horizontal stabilizer openings as shown in Figure 1 of this AD. Remove paint and primer to inspect the edges and exterior skin surface in the skin area at least ¾ inch around the edges of the horizontal stabilizer openings as shown in Figure 1 of this AD.

(d) At intervals not to exceed 100 hours TIS after completing the FPI:

(1) Remove all four horizontal stabilizer supports, P/N 206-023-100-all dash numbers, from the tailboom and the horizontal stabilizer.

(2) Visually inspect the entire edge of the horizontal stabilizer opening on both sides of the tailboom for any crack using a 10-power or higher magnifying glass as shown in Figure 1 of this AD.

(e) Within 600 hours TIS, inspect and modify the tailboom in accordance with the Accomplishment Instructions, Parts I, II, and III of Bell Helicopter Textron Canada Alert Service Bulletin 206L-99-115, Revision F, dated April 14, 2001 (ASB).

(f) After modifying a tailboom in accordance with paragraph (e) of this AD or installing a tailboom modified in accordance with paragraph (e) of this AD, at intervals not to exceed 1200 hours TIS, inspect the modified tailboom in accordance with the Accomplishment Instructions, Part IV, of the ASB.

(g) If a crack is found during any check or inspection required by this AD, before further flight, replace the cracked tailboom with an airworthy tailboom modified according to the requirements of paragraph (e) of this AD or with an airworthy tailboom, P/N 206-033-004-181.

Note 2: Modifying the tailboom in accordance with revisions before Revision F of ASB 206L-99-115 is acceptable for the modifications required by paragraph (e) of this AD.

(h) Inspecting and modifying the tailboom in accordance with paragraph (e) of this AD is terminating action for the requirements of paragraphs (a) through (d) of this AD. Installing an airworthy tailboom, P/N 206-033-004-181, constitutes terminating action for the requirements of this AD.

(i) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(j) Special flight permits may be issued for a one-time flight, not to exceed 5 hours TIS and a maximum of one landing in accordance with 14 CFR 21.197 and 21.199, to operate the helicopter to a location where the requirements of this AD can be accomplished. The visual preflight check required by paragraph (b) of this AD must be accomplished before making a one-time flight.

(k) Inspecting and modifying the tailboom shall be done in accordance with the Accomplishment Instructions, Bell Helicopter Textron Alert Service Bulletin 206L-99-115, Revision F, dated April 14, 2001. This incorporation by reference was approved by the Director of the Federal Register in accordance with 5 U.S.C. 552(a) and 1 CFR part 51. Copies may be obtained from Bell Helicopter Textron, Inc., P.O. Box 482, Fort Worth, Texas 76101, telephone (817) 280-3391, fax (817) 280-6466. Copies may be inspected at the FAA, Office of the Regional Counsel, Southwest Region, 2601 Meacham Blvd., Room 663, Fort Worth, Texas; or at the Office of the Federal Register, 800 North Capitol Street, NW., suite 700, Washington, DC.

(l) This amendment becomes effective on January 27, 2003.

Note 4: The subject of this AD is addressed in Transport Canada (Canada) AD CF-98-42R3, dated February 17, 2000.

Issued in Fort Worth, Texas, on December 9, 2002.
David A. Downey,
Manager, Rotorcraft Directorate, Aircraft Certification Service.

[FR Doc. 02-31752 Filed 12-20-02; 8:45 am]

BILLING CODE 4910-13-P